NATIONAL ARCHIVES AND RECORDS ADMINISTRATION

[NARA-2018-028]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when agencies no longer need them for current Government business. The records schedules authorize agencies to preserve records of continuing value in the National Archives of the United States and to destroy, after a specified period, records lacking administrative, legal, research, or other value. NARA publishes notice in the Federal Register for records schedules in which agencies propose to destroy records they no longer need to conduct agency business. NARA invites public comments on such records schedules.

DATES: NARA must receive requests for copies in writing by April 23, 2018. Once NARA finishes appraising the records, we will send you a copy of the schedule you requested. We usually prepare appraisal memoranda that contain additional information concerning the records covered by a proposed schedule. You may also request these. If you do, we will also provide them once we have completed the appraisal. You have 30 days after we send to you these requested documents in which to submit comments.

ADDRESSES: You may request a copy of any records schedule identified in this notice by contacting Records Appraisal and Agency Assistance (ACRA) using one of the following means:

Mail: NARA (ACRA); 8601 Adelphi Road; College Park, MD 20740-6001.

Email: request.schedule@nara.gov.

Fax: 301-837-3698.

You must cite the control number, which appears in parentheses after the name of the agency that submitted the schedule, and a mailing address. If you would like an appraisal report, please include that in your request.

FOR FURTHER INFORMATION CONTACT: Margaret Hawkins, Director, by mail at Records Appraisal and Agency Assistance (ACRA); National Archives and Records Administration; 8601 Adelphi Road; College Park, MD 20740-6001, by phone at 301-837-1799, or by email at request.schedule@nara.gov.

SUPPLEMENTARY INFORMATION: NARA publishes notice in the Federal Register for records schedules they no longer need to conduct agency business. NARA invites public comments on such records schedules, as required by 44 U.S.C. 3303a(a).

Each year, Federal agencies create billions of records on paper, film, magnetic tape, and other media. To control this accumulation, agency records managers prepare schedules proposing records retention periods and submit these schedules for NARA's approval. These schedules provide for timely transfer into the National Archives of historically valuable records and authorize the agency to dispose of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it creates or maintains the records. Items included in schedules submitted to NARA on or after December 17, 2007, are media neutral unless the item is expressly limited to a specific medium. (See 36 CFR 1225.12(e).)

Agencies may not destroy Federal records without Archivist of the United States' approval. The Archivist approves destruction only after thoroughly considering the records' administrative use by the agency of origin, the rights of the Government and of private people directly affected by the Government's activities, and whether or not the records have historical or other value.

In addition to identifying the Federal agencies and any subdivisions requesting disposition authority, this notice lists the organizational unit(s) accumulating the records (or notes that the schedule has agency-wide applicability when schedules cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Defense, Defense Security Service (DAA-0446-2018-0001, 1 item, 1 temporary item). Records addressing information reported to agency hotline.

2. Department of Homeland Security, United States Citizenship and Immigration Services (DAA-0566-2017-0021, 4 items, 3 temporary items). Records of abandonment of lawful permanent resident status when request is not accepted, and when rejected for incorrect fees or non-sufficient funds. Proposed for permanent retention are records of abandonment of lawful permanent resident status when the request is accepted.

3. Department of Homeland Security, United States Citizenship and Immigration Services (DAA-0566-2017-0028, 1 item, 1 temporary item). Master files of an electronic information system used to verify family relationships between anchor relatives in the United States and persons seeking access to U.S. refugee programs.

4. Department of Housing and Urban Development, Public Housing Administration (DAA-0196-2017-0001, 5 items, 2 temporary items). Records of the Housing and Home Finance Agency created during the acquisition and sale of properties under the War Housing Program to include financial forms related to property sales, purchase, and payments. Proposed for permanent retention are files of land and building appraisals, and land acquisition files.

5. Department of Justice, Bureau of Alcohol, Tobacco, Firearms, and Explosives (DAA-0436-2018-0001, 3 items, 3 temporary items). Records regarding forensic audits including internal financial audits, and financial audits associated with criminal investigations.

6. Department of Justice, Executive Office for United States Attorneys (DAA-0118-2015-0001, 1 item, 1 temporary item). Office of Victims' Rights Ombudsman case files and supplemental materials relating to violations of the Crime Victims' Rights Act of 2004.

7. Department of the Treasury, Internal Revenue Service (DAA-0058-2017-0012, 1 item, 1 temporary item). Case files to determine taxpayer eligibility for benefits outlined in United States tax treaties with foreign countries.

8. Department of the Treasury, Internal Revenue Service (DAA-0058-2018-0003, 1 item, 1 temporary item). Tax return examination case files of high net worth individuals with business connections to corporate and legal entities.

9. Advisory Council on Historic Preservation, Agency-wide (DAA-0536-2018-0002, 5 items, 2 temporary items). Working files and public outreach records. Proposed for permanent retention are final reports, newsletters, training products, minutes, agendas, presentations, and agreements documenting agency programs and activities.

10. National Archives and Records Administration, Research Services (N2-131-15-1, 23 items, 23 temporary items). Department of Justice, Office of Alien Property administrative office records and routine financial records seized from non-governmental entities. These records were accessioned to the National Archives but lack sufficient historical value to warrant continued preservation.

11. Peace Corps, Office of General Counsel (DAA-0490-2017-0003, 3 items, 1 temporary item). Records include working files associated with development of agency policy and procedure. Proposed for permanent retention are case files documenting the development of agency policy and procedure along with agency policy manual.

12. Peace Corps, Office of General Counsel (DAA-0490-2017-0011, 5 items, 4 temporary items). Records related to claims and disputes that do not result in legal action and complaints or claims filed against the agency; eligibility for employment files; and routine legal advice. Proposed for permanent retention are formal legal opinion files.

13. Peace Corps, Office of Strategic Information, Research, and Planning (DAA-0490-2017-0004, 3 items, 2 temporary items). Records include routine program files, and raw data files associated with research and administrative activities of the office. Proposed for permanent retention are documents used to create and modify agency policies, actions, or activities.

14. Securities and Exchange Commission, Division of Corporation Finance (DAA-0266-2018-0004, 1 item, 1 temporary item). Records relating to reviewing, supporting, and maintaining registration statements and periodic reports to include background, support, and supplemental materials used to track and maintain filings.

Laurence Brewer,
Chief Records Officer for the U.S. Government.

[FR Doc. 2018-05813 Filed 3-21-18; 8:45 am]

BILLING CODE 7515-01-P